DEPARTMENT OF ENERGY

Federal Energy Regulatory Commission

Combined Notice of Filings

Take notice that the Commission has received the following Natural Gas Pipeline Rate and Refund Report filings:

Docket Number: PR12-20-001.

Applicants: NorthWestern Corporation.

Description: Tariff filing per 284.123(b)(1)/.: Rate Certification in Compliance with Docket No. CP11-76-000 under PR12-20.

Filed Date: 2/16/2021.

Accession Number: 202102165000.

Comments/Protests Due: 5 p.m. ET 3/9/2021.

Docket Numbers: RP21-482-000.

Applicants: Rockies Express Pipeline LLC.

Description: § 4(d) Rate Filing: REX 2021-02-12 Non-Conforming Negotiated Rate Amendment to be effective 2/13/2021.

Filed Date: 2/12/21.

Accession Number: 20210212-5073.

Comments Due: 5 p.m. ET 2/24/21.

Docket Numbers: RP21-483-000.

Applicants: TransCameron Pipeline, LLC.

Description: § 4(d) Rate Filing: Changes Normal filing 2021 Mar to be effective 3/16/2021.

Filed Date: 2/12/21.

Accession Number: 20210212-5075.

Comments Due: 5 p.m. ET 2/24/21.

Docket Numbers: RP21-484-000.

Applicants: TransCameron Pipeline, LLC.

Description: Petition for Limited Waiver of TransCameron Pipeline, LLC, under RP21-484.

Filed Date: 2/12/21.

Accession Number: 20210212-5117.

Comments Due: 5 p.m. ET 2/24/21.

Docket Numbers: RP21-485-000.

Applicants: ANR Pipeline Company.

Description: § 4(d) Rate Filing: Short Notice Start-Up to be effective 3/15/2021.

Filed Date: 2/12/21.

Accession Number: 20210212-5122.

Comments Due: 5 p.m. ET 2/24/21.

Docket Numbers: RP21-486-000.

Applicants: Empire Pipeline, Inc.

Description: Compliance filing Refund Report Per Settlement in RP18-940.

Filed Date: 2/12/21.

Accession Number: 20210212-5125.

Comments Due: 5 p.m. ET 2/24/21.

Docket Numbers: RP21-487-000.

Applicants: Northern Natural Gas Company.

Description: § 4(d) Rate Filing: 20210212 Negotiated Rate to be effective 2/12/2021.

Filed Date: 2/12/21.

Accession Number: 20210212-5170.

Comments Due: 5 p.m. ET 2/24/21.

Docket Numbers: RP21-488-000.

Applicants: Guardian Pipeline, L.L.C.

Description: § 4(d) Rate Filing: Negotiated Rate PAL Agreements—Koch & Citadel to be effective 2/11/2021.

Filed Date: 2/12/21.

Accession Number: 20210212-5239.

Comments Due: 5 p.m. ET 2/24/21.

Docket Numbers: RP21-489-000.

Applicants: Rockies Express Pipeline LLC.

Description: § 4(d) Rate Filing: REX 2021-02-12 Negotiated Rate Agreement and Amendment to be effective 2/12/2021.

Filed Date: 2/12/21.

Accession Number: 20210212-5253.

Comments Due: 5 p.m. ET 2/24/21.

Docket Numbers: RP21-490-000.

Applicants: Iroquois Gas Transmission System, L.P.

Description: § 4(d) Rate Filing: 2.15.21 Negotiated Rates—Mieco LLC H-7080-89 to be effective 2/13/2021.

Filed Date: 2/16/21.

Accession Number: 20210216-5009.

Comments Due: 5 p.m. ET 3/1/21.

Docket Numbers: RP21-491-000.

Applicants: Equitrans, L.P.

Description: § 4(d) Rate Filing: Negotiated Rate Capacity Release Agreement—2/15/2021 to be effective 2/15/2021.

Filed Date: 2/16/21.

Accession Number: 20210216-5143.

Comments Due: 5 p.m. ET 3/1/21.

Docket Numbers: RP21-492-000.

Applicants: Guardian Pipeline, L.L.C.

Description: § 4(d) Rate Filing: Negotiated Rate PAL Agreement—Morgan Stanley Extension to be effective 2/12/2021.

Filed Date: 2/16/21.

Accession Number: 20210216-5201.

Comments Due: 5 p.m. ET 3/1/21.

Docket Numbers: RP21-493-000.

Applicants: Viking Gas Transmission Company.

Description: § 4(d) Rate Filing: Negotiated Rate PAL Agreement—World Fuel VR1048 Extension to be effective 2/12/2021.

Filed Date: 2/16/21.

Accession Number: 20210216-5217.

Comments Due: 5 p.m. ET 3/1/21.

Docket Numbers: RP21-494-000.

Applicants: Viking Gas Transmission Company.

Description: § 4(d) Rate Filing: Negotiated Rate PAL Agreement—World Fuel VR1050 & VR1051 to be effective 2/13/2021.

Filed Date: 2/16/21.

Accession Number: 20210216-5257.

Comments Due: 5 p.m. ET 3/1/21.

Docket Numbers: RP21-495-000.

Applicants: Midwestern Gas Transmission Company.

Description: § 4(d) Rate Filing: Negotiated Rate PAL Agreement—Exelon Generation Company, LLC to be effective 2/14/2021.

Filed Date: 2/16/21.

Accession Number: 20210216-5272.

Comments Due: 5 p.m. ET 3/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: February 17, 2021.
Nathaniel J. Davis, Sr.,
Deputy Secretary.

[FR Doc. 2021-03673 Filed 2-22-21; 8:45 am]

BILLING CODE 6717-01-P